FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 4, 2009.

A. Federal Reserve Bank of Philadelphia (Michael E. Collins, Senior Vice President) 100 North 6th Street, Philadelphia, Pennsylvania 19105-1521:

1. Patriot Financial Partners, GP, L.P., Patriot Financial Partners, L.P., Patriot Financial Partners Parallel, L.P., Patriot Financial Partners, GP, LLC, Patriot Financial Managers, L.P., and Ira M. Lubert, W. Kirk Wycoff and James J. Lynch, all of Philadelphia, Pennsylvania; to acquire voting shares of Square 1 Financial, Inc., and thereby indirectly acquire voting shares of Square 1 Bank, both of Durham, North Carolina.

B. Federal Reserve Bank of Atlanta (Steve Foley, Vice President) 1000 Peachtree Street, N.E., Atlanta, Georgia 30309:

1. Serguei Kouzmine, Atlanta, Georgia; to acquire voting shares of UCB Financial Group, Inc., and thereby indirectly acquire voting shares of Atlanta Business Bank, both of Atlanta, Georgia.

C. Federal Reserve Bank of Kansas City (Todd Offenbacker, Assistant Vice President) 1 Memorial Drive, Kansas City, Missouri 64198-0001:

1. The Estate of Catherine G. Eisemann, Trinidad, Colorado, and Roger Dean Eisemann, Houston, Texas, individually, as a member of the Eisemann Family and as Co-Executor of the Estate of Catherine G. Eisemann, to retain control of Republic Trinidad Corporation, Houston, Texas, and thereby indirectly retain control of First National Bank in Trinidad, Trinidad, Colorado.

Board of Governors of the Federal Reserve System, November 16, 2009.
Robert deV. Frierson,
Deputy Secretary of the Board.

[FR Doc. E9-27873 Filed 11-19-09; 8:45 am]

BILLING CODE 6210-01-S